LEGAL SERVICES CORPORATION

Sunshine Act Meetings

TIME AND DATE: The Legal Services Corporation Board of Directors will meet virtually on May 17, 2024. The meeting will commence at 10:30 a.m. Eastern Time and will continue until the conclusion of the Board's agenda.

PLACE: Public Notice of Virtual Meetings.

LSC will conduct the May 17, 2024, meeting via Zoom videoconference.

Public Observation: Unless otherwise noted herein, the LSC Board of Directors meeting will be open to public observation via Zoom. Members of the public who wish to participate remotely in the public proceedings may do so by following the directions provided below.

Directions for Open Session:

May 17, 2024

To join the Zoom meeting by computer, please use this link.

○ https://lsc-gov.zoom.us/j/81388912215?pwd=QXIffPVaC4zhNT1JSIhiqRplFodKof.1&from=addon

○ Meeting ID: 813 8891 2215

○ Passcode: 51724

○ To join the Zoom meeting with one tap from your mobile phone, please click dial:

○ +13017158592,,81526341918# US

○ +13126266799,,81526341918# US

○ To join the Zoom meeting by telephone, please dial one of the following numbers:

○ +1 669 900 6833 (San Jose)

○ +1 253 215 8782 (Tacoma)

○ +1 346 248 7799 (Houston)

○ +1 408 638 0968 (San Jose)

○ +1 646 876 9923 (New York)

○ +1 301 715 8592 (Washington, DC)

○ +1 312 626 6799 (Chicago)

○ Meeting ID: 813 8891 2215

○ Passcode: 51724

Once connected to Zoom, please immediately mute your computer or telephone. Members of the public are asked to keep their computers or telephones muted to eliminate background noise. To avoid disrupting the meetings, please refrain from placing the call on hold if doing so will trigger recorded music or other sound.

From time to time, the Board Chair may solicit comments from the public. To participate in the meeting during public comment, use the `raise your hand' or `chat' functions in Zoom and wait to be recognized by the Chair before stating your questions and/or comments.

STATUS: Open, except that, upon a vote of the Board of Directors, a portion of the meeting may be closed to the public to receive a briefing from LSC Management and to consider and act on as a list of prospective Leaders Council and Emerging Leaders Council members.

MATTERS TO BE CONSIDERED: The LSC Board of Directors' Transmittal Letter to Accompany the Inspector General's Semiannual Report to Congress, for the Period of Oct. 1, 2023 through March 31, 2024.

CONTACT PERSON FOR MORE INFORMATION: Jessica Wechter, Special Assistant to the President, at (202) 295-1621. Questions may also be sent by electronic mail to wechterj@lsc.gov.

Non-Confidential Meeting Materials: Non-confidential meeting materials will be made available in electronic format at least 24 hours in advance of the meeting on the LSC website, at https://www.lsc.gov/about-lsc/board-meeting-materials.

(Authority: 5 U.S.C. 552b.)

Dated: May 8, 2024.
Stefanie Davis,
Deputy General Counsel, Legal Services Corporation.

[FR Doc. 2024-10437 Filed 5-8-24; 4:15 pm]

BILLING CODE 7050-01-P